DEPARTMENT OF DEFENSE

Office of the Secretary

[Transmittal No. 24-16]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-16, Policy Justification, and Sensitivity of Technology.

Dated: December 17, 2024.
Stephanie J. Bost,
Alternate OSD Federal Register Liaison Officer, Department of Defense.

BILLING CODE 6001-FR-P

BILLING CODE 6001-FR-C

Transmittal No. 24-16

Notice of Proposed Issuance of Letter of Offer Pursuant to Section 36(b)(1) of the Arms Export Control Act, as amended

(i) Prospective Purchaser: Government of Israel

(ii) Total Estimated Value:

Major Defense Equipment * | $ 7.5 million.
Other | $140.0 million.
Total | $147.5 million.

Funding Source: Foreign Military Funds and National Funds

(iii) Description and Quantity or Quantities of Articles or Services under Consideration for Purchase: Foreign Military Sales (FMS) cases IS-B-ZOZ and IS-B-ZZS were below congressional notification threshold at $96.51 million and included four thousand seven hundred ninety-two (4,792) M107 155mm High Explosive projectiles (MDE); fifty-two thousand two hundred twenty-nine (52,229) M795 155mm High Explosive projectiles (non-MDE); and thirty thousand (30,000) M4 propelling charges (non-MDE), along with publications; associated technical documentation; and logistics support services, which have subsequently been delivered. Israel has requested additional 155mm ancillaries, which will exceed the notification value threshold, and thus notification of the entire program is required.

The above notification requirements are combined as follows:

Major Defense Equipment (MDE):

Four thousand seven hundred ninety-two (4,792) M107 155mm High Explosive Projectiles

Non-MDE:

Also included are various 155mm projectiles; propelling charges; 155mm ancillaries; publications; technical documentation; U.S. Government and contractor engineering, technical, and logistics support services; and other related elements of logistics and program support.

(iv) Military Department: Army (IS-B-ZZS, IS-B-ZOZ, IS-B-VCF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 29, 2023

* As defined in Section 47(6) of the Arms Export Control Act.

POLICY JUSTIFICATION

Israel—155mm Artillery Ammunition

The Government of Israel has requested four thousand seven hundred ninety-two (4,792) M107 155mm High Explosive projectiles. Also included are various 155mm projectiles; 155mm ancillaries; publications; technical documentation; U.S. Government and contractor engineering, technical, and logistics support services; and other related elements of logistics and program support. The original FMS cases were below congressional notification threshold at $96.51 million and included four thousand seven hundred ninety-two (4,792) M107 155mm High Explosive projectiles (MDE), fifty-two thousand two hundred twenty-nine (52,229) M795 155mm High Explosive projectiles (non-MDE), and thirty thousand (30,000) M4 propelling charges (non-MDE), along with publications, associated technical documentation, and logistics support services, which have subsequently been delivered. Israel has requested additional 155mm ancillaries, which will exceed the notification value threshold, and thus notification of the entire program is required. The estimated total cost is $147.5 million.

The Secretary of State has determined and provided detailed justification to Congress that an emergency exists that requires the immediate sale to the Government of Israel of the above defense articles and services in the national security interests of the United States, thereby waiving the congressional review requirements under Section 36(b) of the Arms Export Control Act, as amended.

The United States is committed to the security of Israel, and it is vital to U.S. national interests to assist Israel to develop and maintain a strong and ready self-defense capability. This proposed sale is consistent with those objectives.

Israel will use the enhanced capability as a deterrent to regional threats and to strengthen its homeland defense. Israel will have no difficulty absorbing this equipment into its armed forces.

The proposed sale of this equipment and support will not alter the basic military balance in the region.

The 155mm artillery ammunition will be provided from U.S. Army stock. There are no offset agreements proposed in connection with this potential sale.

Implementation of this proposed sale will not require the assignment of any additional U.S. Government or contractor representatives to Israel.

There will be no adverse impact on U.S. defense readiness as a result of this proposed sale.

Transmittal No. 24-16

Notice of Proposed Issuance of Letter of Offer Pursuant to Section 36(b)(1) of the Arms Export Control Act

Annex

Item No. vii

(vii) Sensitivity of Technology:

1. The M107 and M795 are standard Army 155mm high explosive projectiles capable of being fired from many of the 155mm howitzers in use around the world today. These projectiles have steel bodies which are filled with explosives, typically TNT.

2. The M739 and M782 are standard Army 155mm fuzes. Fuzes cause the projectile to detonate at the target and are attached to the projectile by the crew of the howitzer just before loading and firing. The M739 is a point detonating fuze which functions on impact; the M782 is a multi-function fuze which can be set to point detonate or to burst in the air above the target.

3. The M119 and M4 are standard Army 155mm propelling charges. They are loaded into the howitzer, separately from the M107 or M795 projectiles, and propel the projectile from the barrel when the weapon is fired.

4. The M82 is the standard Army 155mm primer. The primer serves to ignite the propelling charge when the howitzer is fired.

5. The highest level of classification of defense articles, components, and services included in this potential sale is UNCLASSIFIED.

6. If a technologically advanced adversary were to obtain knowledge of the specific hardware and software elements, the information could be used to develop countermeasures that might reduce weapon system effectiveness or be used in the development of a system with similar or advanced capabilities.

7. A determination has been made that the Government of Israel will provide substantially the same degree of protection for the sensitive technology being released as the U.S. Government. This sale is necessary in furtherance of the U.S. foreign policy and national security objectives outlined in the Policy Justification.

8. All defense articles and services listed in this transmittal have been authorized for release and export to Israel.

[FR Doc. 2024-30635 Filed 12-23-24; 8:45 am]

BILLING CODE 6001-FR-P